DEPARTMENT OF ENERGY

Federal Energy Regulatory Commission

[Project No. 2100-166]

California Department Water Resources; Notice of Application for Non-Project Use of Project Lands and Waters and Soliciting Comments, Motions To Intervene, and Protests

June 23, 2009.

Take notice that the following application has been filed with the Commission and is available for public inspection:

a. Application Type: Amendment to License.

b. Project No.: 2100-166.

c. Date Filed: May 18, 2009.

d. Applicant: California Department Water Resources (DWR).

e. Name of Project: Feather River Hydroelectric Project.

f. Location: The project is located on the Feather River in Butte County near Oroville, California.

g. Filed Pursuant to: Federal Power Act 16 U.S.C. 791(a)-825(r).

h. Applicant Contact: Bill Cochran, Chief of Coordination Branch at 1416 Ninth Street, P.O. Box 94236-0001. Phone: (530) 534-2376.

i. FERC Contact: Any questions on this notice should be addressed to Brian Romanek at (202) 502-6175 or by e-mail: Brian.Romanek@ferc.gov. Deadline for filing comments and or motions: July 24, 2009.

j. Deadline for filing motions to intervene and protests, comments, and recommendations are due 30 days from the issuance date of this notice. All documents (original and eight copies) should be filed with: Secretary, Federal Energy Regulatory Commission, 888 First Street, NE., Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

k. Description of the Application: The DWR, licensee for the Feather River Hydroelectric Project, has filed a request for authorization to conduct an annual bicycle event organized by the Lake Oroville Bicycle Organization, known as the “24 Hour of Gold Bike Race”. This year's event would be conducted on October 24 and 25, 2009, and would occur in the Loafer Creek Recreation Area of the Feather River Hydroelectric Project on trails that are designated for hiking and equestrian use. The trail being used would be open to mountain bike use only for 24 hours starting at 10 a.m. on the first day.

l. Location of the Application: This filing is available for review at the Commission or may be viewed on the Commission's Web site at http://www.ferc.gov, using the “eLibrary” link. Enter the docket number excluding the last three digits in the docket number field to access the document. You may also register online at http://www.ferc.gov/docs-filing/esubscription.asp to be notified via e-mail of new filings and issuances related to this or other pending projects. For assistance, contact FERC Online Support at FERCOnlineSupport@ferc.gov or toll-free at (866) 208-3676, or for TTY, contact (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Project Number of the particular application to which the filing refers. All documents (original and eight copies) should be filed with: Secretary, Federal Energy Regulatory Commission, 888 First Street, NE., Washington, DC 20426. A copy of any motion to intervene must also be served upon each representative of the Applicant specified in the particular application.

p. Agency Comments—Federal, State, and local agencies are invited to file comments on the application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-15381 Filed 6-29-09; 8:45 am]

BILLING CODE P